NATIONAL CREDIT UNION ADMINISTRATION

Information Collection Notice Related To Rule for Identity Theft Red Flags and Address Discrepancies Under Fair and Accurate Transactions Act of 2003

AGENCY: National Credit Union Administration (NCUA).

ACTION: Notice and request for comment.

SUMMARY: As directed by the Office of Management and Budget (OMB), the NCUA is publishing this supplementary notice and request for comments on a new, rule-related information collection that is part of an inter-agency regulation issued July 18, 2006 to implement provisions in the Fair and Accurate Credit Transactions Act of 2003 (FACTA). NCUA expects this collection to be under review at OMB shortly.

DATES: Comments will be accepted until October 18, 2006.

ADDRESSES: Interested parties are invited to submit written comments to the NCUA Clearance Officer and OMB Desk Officer listed below:

Clearance Officer: Mr. Neil McNamara, National Credit Union Administration, 1775 Duke Street, Alexandria, VA 22314-3428, Fax No. 703-837-2861, E-mail: mcnamara@ncua.gov.

OMB Desk Officer: Mr. Mark Menchik, Office of Information and Regulatory Affairs, Office of Management and Budget, Docket Library, Room 10102, 725-17th Street, NW., Washington, DC 20503.

FOR FURTHER INFORMATION CONTACT: For additional information, contact Regina Metz, Staff Attorney, Office of General Counsel, at the National Credit Union Administration, 1775 Duke Street, Alexandria, VA 22314-3428, or at (703) 518-6540.

SUPPLEMENTARY INFORMATION:

Background

The NCUA, along with the Office of the Comptroller of the Currency, the Board of Governors of the Federal Reserve System, the Federal Deposit Insurance Corporation, the Office of Thrift Supervision, and the Federal Trade Commission (the Agencies), published a proposed rule on July 18, 2006, to implement sections 114 and 315 of the FACTA by proposing guidelines for identifying patterns, practices and specific forms of activity indicative of possible identity theft. 71 FR 40785 (July 18, 2006). The Agencies also proposed joint regulations that would require financial institutions and creditors to establish policies and procedures to implement the guidelines, including assessing the validity of address change requests.

Paperwork Reduction Act

Under the Paperwork Reduction Act, the Agencies may not conduct or sponsor an information collection unless it displays a currently valid OMB control number. NCUA is requesting comment on a proposed information collection. This notice supplements the notice previously published at 71 FR 40785 (July 18, 2006).

Title of Information Collection: Identity Theft Red Flags and Address Discrepancies under FACTA.

Frequency of Response: On occasion.

Affected Public: Credit unions.

Abstract: NCUA, along with the other agencies, are proposing regulations requiring credit unions to establish reasonable policies and procedures to address the risk of identity theft and to assess the validity of a request for a change of address under certain circumstances. The proposed regulation would require creation of an identity theft program and report to a board of directors at least annually on compliance with the proposed regulation. Staff must be trained to implement the program and issuers of credit and debit cards would be required to establish policies and procedures to assess the validity of a change of address request, including notification to the cardholder.

Estimated burden: NCUA and the other Agencies estimate it will initially take 25 hours to create a program as required by the proposed regulation, 4 hours to prepare an annual report, and 2 hours to train staff. It is estimated that credit and debit card issuers will require an additional 4 hours to develop policies and procedures regarding assessment of the validity of a change of address request.

Number of respondents: 5,245.

Estimated time per response: 39 hours.

Training: 2 hours.

Policies and procedures for assessment of validity of changes of address: 4 hours.

Policies and procedures to respond to notices of address discrepancy: 4 hours.

Total estimated annual burden: 204,555.

Comments are invited on:

(a) Whether the collection of information is necessary for the proper performance of the NCUA's and the Agencies' functions including whether the information has practical utility;

(b) The accuracy of the estimates of the burden of the information collection, including the validity of the methodology and assumptions used.

(c) Ways to enhance the quality, utility, and clarity of the information to be collected;

(d) Ways to minimize the burden of the information collection on respondents including through the use of automated collection techniques or other forms of information technology; and

(e) Estimates of capital or start up costs and costs of operation, maintenance, and purchase of service to provide information.

By the National Credit Union Administration Board on September 12, 2006.
Mary Rupp,
Secretary of the Board.

[FR Doc. E6-15403 Filed 9-15-06; 8:45 am]

BILLING CODE 7535-01-P